COMMITTEE FOR PURCHASE FROM PEOPLE WHO ARE BLIND OR SEVERELY DISABLED

Procurement List; Proposed Deletions

AGENCY: Committee for Purchase From People Who Are Blind or Severely Disabled.

ACTION: Proposed deletions from the Procurement List.

SUMMARY: The Committee is proposing to delete products from the Procurement List that was previously furnished by nonprofit agencies employing persons who are blind or have other severe disabilities.

DATES: Comments must be received on or before April 16, 2017.

ADDRESSES: Committee for Purchase From People Who Are Blind or Severely Disabled, 1401 S. Clark Street, Suite 715, Arlington, Virginia 22202-4149.

FOR FURTHER INFORMATION CONTACT: Amy B. Jensen, Telephone: (703) 603-7740, Fax: (703) 603-0655, or email CMTEFedReg@AbilityOne.gov.

SUPPLEMENTARY INFORMATION: This notice is published pursuant to 41 U.S.C. 8503 (a)(2) and 41 CFR 51-2.3. Its purpose is to provide interested persons an opportunity to submit comments on the proposed actions.

Deletions

The following products are proposed for deletion from the Procurement List:

Products

NSN(s)—Product Name(s): 4910-00-251-6981—Creeper, Mechanics

Mandatory Source(s) of Supply: Quadco Rehabilitation Center, Inc. (Northwest Products Division), Stryker, OH

Contracting Activity: Defense Logistics Agency Land and Maritime

NSN(s)—Product Name(s): 8415-01-576-7524—Hood, Lightweight, Performance, Fire Resistant, Type I, Army, Unisex, Green

Mandatory Source(s) of Supply: Southeastern Kentucky Rehabilitation Industries, Inc., Corbin, KY Dawn Enterprises, Inc., Blackfoot, ID

Contracting Activity: Army Contracting Command—Aberdeen Proving Ground, Natick Contracting Division

NSN(s)—Product Name(s): 5120-00-106-7598—Jack, Scissors, Hand

Mandatory Source(s) of Supply: Employment Source, Inc., Fayetteville, NC

Contracting Activity: Defense Logistics Agency Aviation

NSN(s)—Product Name(s):

8110-01-443-8476—Tube, Mailing, 36″ x 3″

8110-01-443-8480—Tube, Mailing, 24″ x 3″

8110-00-244-7435—Tube, Mailing, 24″ x 2″

8110-00-291-0344—Tube, Mailing and Filing, 30″ x 1-1/2″

8110-00-291-0345—Tube, Mailing, 36″ x 2″

8110-00-291-0346—Tube, Mailing, 42″ x 2″

Mandatory Source(s) of Supply: Challenge Enterprises of North FL., Inc., Green Cove Springs, FL

Contracting Activity: General Services Administration, New York, NY

Amy B. Jensen,
Director, Business Operations.

[FR Doc. 2017-05364 Filed 3-16-17; 8:45 am]

BILLING CODE 6353-01-P